JUDICIAL CONFERENCE OF THE UNITED STATES

Meeting of the Judicial Conference Committee on Rules of Practice and Procedure

AGENCY: Advisory Committee on Rules of Criminal Procedure, Judicial Conference of the United States.

ACTION: Notice of open meeting.

SUMMARY: The Advisory Committee on Rules of Criminal Procedure will hold a two-day meeting. The meeting will be open to public observation but not participation.

DATES: September 28-29, 2015. Time: 8:30 a.m.

ADDRESSES: United States Court of Appeals, William K. Nakamura Courthouse, Sixth Floor Judges Conference Room, 1010 Fifth Avenue, Seattle WA 98104.

FOR FURTHER INFORMATION CONTACT: Rebecca A. Womeldorf, Rules Committee Secretary, Rules Committee Support Office, Administrative Office of the United States Courts, Washington, DC 20544, telephone (202) 502-1820.

Dated: August 6, 2015.
Rebecca A. Womeldorf,
Rules Committee Secretary.

[FR Doc. 2015-19755 Filed 8-11-15; 8:45 am]

BILLING CODE 2210-55-P